DEPARTMENT OF AGRICULTURE

Federal Crop Insurance Corporation

7 CFR Part 400

General Administrative Regulations; Administrative Remedies for Non-Compliance

AGENCY: Federal Crop Insurance Corporation, USDA.

ACTION: Correcting amendments.

SUMMARY: This document contains necessary amendments to address corrections in the General Administrative Regulations; Administrative Remedies for Non-Compliance regulations which contain outdated references.

DATES: Effective June 1, 2018.

FOR FURTHER INFORMATION CONTACT: David L. Miller, Director, Reinsurance Services Division, Federal Crop Insurance Corporation, United States Department of Agriculture (USDA), 1400 Independence Avenue SW, Stop 0801, Washington, DC 20250, telephone (202) 720-9830.

SUPPLEMENTARY INFORMATION:

Background

This correction is being published to correct the General Administrative Regulations; Subpart R—Administrative Remedies for Non-Compliance regulations. The outdated reference to “7 CFR part 3017” will be removed and replaced by the correct reference of “2 CFR parts 180 and 417” in §§ 400.451 and 400.456.

List of Subjects in 7 CFR Part 400

Administrative practice and procedure, Crop insurance, Reporting and recordkeeping requirements.

Accordingly, 7 CFR part 400 is corrected by making the following amendments:

PART 400—GENERAL ADMINISTRATIVE REGULATIONS

1. The authority citation for part 400 continues to read as follows:

Authority: 7 U.S.C. 1506(l) and 1506(o).

§ 400.451 [Amended]

2. Amend § 400.451 paragraph (a) by removing the reference to “7 CFR part 3017” and adding in its place “2 CFR parts 180 and 417”.

§ 400.456 [Amended]

3. Amend § 400.456, paragraphs (a), (b), and (c) by removing the references to “7 CFR part 3017” and adding in their place “2 CFR parts 180 and 417”.

Signed in Washington, DC, on May 23, 2018.
Martin R. Barbre,
Manager, Federal Crop Insurance Corporation.

[FR Doc. 2018-11799 Filed 5-31-18; 8:45 am]

BILLING CODE 3410-08-P